INTERNATIONAL TRADE COMMISSION

[Inv. No. 337-TA-602]

In the Matter of Certain GPS Devices and Products Containing Same; Notice of Commission Determination To Rescind a Limited Exclusion Order and Cease and Desist Orders

AGENCY: U.S. International Trade Commission.

ACTION: Notice.

SUMMARY: Notice is hereby given that the U.S. International Trade Commission has determined to rescind the limited exclusion order and cease and desist orders issued in the above-captioned investigation based on a settlement agreement.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The underlying investigation was instituted on May 7, 2007, based on a complaint filed by Global Locate, Inc., a subsidiary of Broadcom Corporation (collectively, “Broadcom”). 72 FR 25777 (2007). The complaint alleged violations of section 337 in the importation into the United States, the sale for importation, or the sale within the United States after importation of certain GPS devices and products containing the same by reason of infringement of various claims of U.S. Patents. The complaint in the underlying investigation named various respondents. On January 15, 2009, the Commission found a violation of section 337 by the respondents by reason of infringement of all asserted patents. The Commission issued a limited exclusion order and also cease-and-desist orders against certain respondents. Respondents subsequently appealed the Commission's final determination to the United States Court of Appeals for Federal Circuit (“Federal Circuit”). On April 12, 2010, the Federal Circuit affirmed the Commission's Final Determination in all respects. See SiRF Tech., Inc. v. Int'l Trade Comm'n, 601 F.3d 1319 (Fed. Cir. 2010).

On August 16, 2010, the Commission instituted modification proceedings based on a petition seeking modification of the Commission's remedial orders filed by the respondents. On December 7, 2010, the Commission also instituted enforcement proceedings based on an enforcement complaint filed by Broadcom. These proceedings were terminated on February 28, 2011, based on a settlement agreement between Broadcom and the respondents.

On January 31, 2011, Broadcom and the respondents filed a joint motion for rescission of the remedial orders pursuant to the settlement agreement.

The Commission has determined that the settlement agreement satisfies the requirement of Commission Rule 210.76 (a)(1) (19 CFR 210.76(a)(1)) that there be changed conditions of fact or law. The Commission therefore has issued an order rescinding the limited exclusion order and cease and desist orders previously issued in this investigation.

The authority for the Commission's determination is contained in Section 337 of the Tariff Act of 1930, as amended (19 U.S.C. 1337), and in section 210.76(a)(1) of the Commission's Rules of Practice and Procedure (19 CFR 210.76(a)(1)).

Issued: March 15, 2011.
By order of the Commission.
James R. Holbein,
Acting Secretary to the Commission.

[FR Doc. 2011-6505 Filed 3-18-11; 8:45 am]

BILLING CODE 7020-02-P